DEPARTMENT OF THE INTERIOR

National Park Service

[NPS-WASO-NAGPRA-NPS0036252; PPWOCRADN0-PCU00RP14.R50000]

Notice of Intent To Repatriate Cultural Items: High Desert Museum, Bend, OR

AGENCY: National Park Service, Interior.

ACTION: Notice.

SUMMARY: In accordance with the Native American Graves Protection and Repatriation Act (NAGPRA), the High Desert Museum intends to repatriate certain cultural items that meet the definition of unassociated funerary objects and that have a cultural affiliation with the Indian Tribes or Native Hawaiian organizations in this notice. The cultural items were removed from the area of the Columbia and upper Snake Rivers.

DATES: Repatriation of the cultural items in this notice may occur on or after August 28, 2023.

ADDRESSES: Michelle Seiler, High Desert Museum, 59800 South Hwy 97, Bend, OR 97702, telephone (541) 382-4754 Ext. 376, email michelle@highdesertmuseum.org.

SUPPLEMENTARY INFORMATION: This notice is published as part of the National Park Service's administrative responsibilities under NAGPRA. The determinations in this notice are the sole responsibility of High Desert Museum. The National Park Service is not responsible for the determinations in this notice. Additional information on the determinations in this notice, including the results of consultation, can be found in the summary or related records held by High Desert Museum.

Description

Fifty cultural items were removed from the area of the Columbia and upper Snake Rivers. In July of 1966, Charles and Edith McGill purchased these cultural items from Bill Reierson, owner of Kurio Kabin in Cashmere, WA. At the time of purchase, the store identified these items as being from the Columbia and Snake River areas. Kurio Kabin, a rock shop, was located in an area in Washington with an active group that regularly looted sites and graves in the area of the Columbia and upper Snake Rivers. Charles and Edith McGill donated these items to the High Desert Museum on August 13, 1992. The 50 unassociated funerary objects are 34 shell beads; seven Olivella shells; eight pieces of Dentalium; and one string of hemp on which are one piece of copper, 14 small white beads, and one black bead.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the High Desert Museum has determined that:

• The 50 cultural items described above are reasonably believed to have been placed with or near individual human remains at the time of death or later as part of the death rite or ceremony and are believed, by a preponderance of the evidence, to have been removed from a specific burial site of a Native American individual.

• There is a relationship of shared group identity that can be reasonably traced between the cultural items and the Confederated Tribes and Bands of the Yakama Nation; Confederated Tribes of the Colville Reservation; Confederated Tribes of the Umatilla Indian Reservation; Confederated Tribes of the Warm Springs Reservation of Oregon; and the Nez Perce Tribe.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 28, 2023. If competing requests for repatriation are received, High Desert Museum must determine the most appropriate requestor prior to repatriation. Requests for joint repatriation of the cultural items are considered a single request and not competing requests. High Desert Museum is responsible for sending a copy of this notice to the Indian Tribes identified in this notice.

Authority: Native American Graves Protection and Repatriation Act, 25 U.S.C. 3003, and the implementing regulations, 43 CFR 10.8, 10.10, and 10.14.

Dated: July 19, 2023.
Melanie O'Brien,
Manager, National NAGPRA Program.

[FR Doc. 2023-16064 Filed 7-27-23; 8:45 am]

BILLING CODE 4312-52-P